DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for licensing by the Department of the Navy.

The following patents are available for licensing: U.S. Patent Application 12/537,852: Air Conditioning System, Navy Case PAX83, filed on August 07, 2009; U.S. Patent Application Number 13/009,281: Low-VOC Siloxane Compositions, Navy Case PAX66, filed January 19, 2011; U.S. Patent Application Number 12/956,112: Aerosol Electrical Contact Cleaning and Lubricating Compound, Navy Case PAX59, filed November 30, 2010; U.S. Patent Application Number 13/053,769: SCR Module Dynamic Counter Tester, Navy Case PAX57, filed March 22, 2011; U.S. Patent Application Number 12/404,602: Quick Release Fitting; Navy Case PAX18, filed March 16, 2009; U.S. Patent Application 12/404,550: Optical Subassembly Packing Configuration, Navy Case 97945, filed March 16, 2009; U.S. Patent No. 7,986,585: Reception of Uplink Data From Sonobuoys, issued July 26, 2011.

ADDRESSES: Request for data and inventor interviews should be directed to Mr. Paul Fritz, Naval Air Warfare Center Aircraft Division, Business and Partnership Office, Office of Research and Technology Applications, Building 505, 22473 Millstone Road, Patuxent River, MD 20670, 301-342-5586 or e-mail paul.fritz@navy.mil.

DATES: Request for data, samples, and inventor interviews should be made prior to August 31, 2011.

FOR FURTHER INFORMATION CONTACT: Mr. Paul Fritz, Naval Air Warfare Center Aircraft Division, Business and Partnership Office, Office of Research and Technology Applications, Building 505, 22473 Millstone Road, Patuxent River, MD 20670, 301-342-5586 or e-mail paul.fritz@navy.mil.

SUPPLEMENTARY INFORMATION: The U.S. Navy intends to move expeditiously to license these inventions. All licensing application packages and commercialization plans must be returned to Naval Air Warfare Center Aircraft Division, Business and Partnership Office, Office of Research and Technology Applications, Building 505, 22473 Millstone Road, Patuxent River, MD 20670.

The Navy, in its decisions concerning the granting of licenses, will give special consideration to existing licensees, small business firms, and consortia involving small business firms. The Navy intends to ensure that its licensed inventions are broadly commercialized throughout the United States.

A Patent Cooperation Treaty application may be filed for each of the patents as noted above. The Navy intends that licensees interested in a license in territories outside of the United States will assume foreign prosecution and pay the cost of such prosecution.

Authority: 35 U.S.C. 207, 37 CFR part 404.

Dated: August 24, 2011.
J. M. Beal,
Lieutenant Commander, Judge Advocate General's Corps, U.S. Navy, Federal Register Liaison Officer.

[FR Doc. 2011-22254 Filed 8-30-11; 8:45 am]

BILLING CODE 3810-FF-P